DEPARTMENT OF EDUCATION

Announcing OMB Approval of Information Collections

AGENCY: Department of Education.

ACTION: Notice.

SUMMARY: The Department of Education (Department) announces that the Office of Management and Budget (OMB) has approved certain collections of information, listed in the SUPPLEMENTARY INFORMATION below, following the Department's submission of requests for approvals under the Paperwork Reduction Act of 1995 (PRA) (44 U.S.C. 3501 et seq.). This notice describes the information collections that have been approved or re-approved, their OMB control numbers, and their current expiration dates.

FOR FURTHER INFORMATION CONTACT: For Title I—Improving the Academic Achievement of the Disadvantaged—Assessment and Accountability for LEP students (OMB Control No. 1810-0681): Jacquelyn C. Jackson, Ed.D., Director, Student Achievement and School Accountability Programs, Office of Elementary and Secondary Education, U.S. Department of Education, 400 Maryland Avenue, SW., Room 3W202, FB-6, Washington, DC 20202-6132. Telephone: (202) 260-0826. For Federal Family Education Loan Program Regulations (OMB Control No. 1845-0020): Ms. Gail McLarnon, U.S. Department of Education, 1990 K Street, NW., 8th Floor, Washington, DC 20006. Telephone: (202) 219-7048 or via the Internet at: Gail.McLarnon@ed.gov. For collections related to the Individuals with Disabilities Education Act (OMB Control Nos. 1820-0030, 1820-0043, 1820-0517, 1820-0518, 1820-0521, 1820-0600, 1820-0621, 1820-0624, and 1820-0677): Alexa Posny, U.S. Department of Education, Potomac Center Plaza, 550 12th Street, SW., Washington, DC 20202-2641. Telephone: (202) 245-7459, ext. 3.

If you use a telecommunications device for the deaf (TDD), you may call the Federal Relay Service (FRS) at 1-800-877-8339.

Individuals with disabilities may obtain this document in an alternate format (e.g., Braille, large print, audiotape, or computer diskette) on request to any of the contact people listed in this section.

SUPPLEMENTARY INFORMATION: The PRA and its implementing regulations require Federal agencies to display OMB control numbers and inform respondents of their legal significance after OMB has approved an agency's information collections. In accordance with those requirements, the Department notifies the public that the following information collections have been approved (or re-approved) by OMB following the Department's submission of an information collection request (ICR):

• OMB Control No. 1810-0681, Title I—Improving the Academic Achievement of the Disadvantaged—Assessment and Accountability for LEP students (final regulations). The expiration date for this information collection is April 30, 2007.

• OMB Control No. 1820-0030, Annual State Application Under Part B of the Individuals with Disabilities Education Act. The expiration date for this collection is August 31, 2009.

• OMB Control No. 1820-0043, Report of Children with Disabilities Receiving Special Education under Part B of the Individuals with Disabilities Education Act. The expiration date for this collection is August 31, 2009.

• OMB Control No. 1820-0517, Part B, Individuals with Disabilities Education Act Implementation of FAPE Requirements. The expiration date for this collection is August 31, 2009.

• OMB Control No. 1820-0518, Personnel (in Full-Time Equivalency of Assignments) Employed to Provide Special Education and Related Services for Children with Disabilities. The expiration date for this collection is August 31, 2009.

• OMB Control No. 1820-0521, Report of Children with Disabilities Exiting Special Education. The expiration date for this collection is August 31, 2009.

• OMB Control No. 1820-0600, State and Local Educational Agency Recordkeeping and Reporting Requirements Under Part B of the IDEA. The expiration date for this collection is August 31, 2009.

• OMB Control No. 1820-0621, Report of Children with Disabilities Subject to Disciplinary Removal. The expiration date for this collection is August 31, 2009.

• OMB Control No. 1820-0624, IDEA Part B State Performance Plan and Annual Performance Report. The expiration date for this collection is August 31, 2009.

• OMB Control No. 1820-0677, Report of Dispute Resolution Under Part B of the Individuals with Disabilities Education Act. The expiration date for this collection is August 31, 2009.

• OMB Control No. 1845-0020, Federal Family Education Loan Program Regulations. The expiration date for this collection is December 31, 2008.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: January 23, 2007.
Margaret Spellings,
Secretary of Education.

[FR Doc. E7-1354 Filed 1-26-07; 8:45 am]

BILLING CODE 4000-01-P